DEPARTMENT OF THE INTERIOR

National Park Service

[N6601; NPS-WASO-NAGPRA-NPS0041334; PPWOCRADN0-PCU00RP14.R50000]

Notice of Inventory Completion: Henry L Ferguson Museum, Fishers Island, NY

AGENCY: National Park Service, Interior.

ACTION: Notice.

SUMMARY: In accordance with the Native American Graves Protection and Repatriation Act (NAGPRA), the Henry L Ferguson Museum has completed an inventory of human remains and associated funerary objects and has determined that there is a cultural affiliation between the human remains and associated funerary objects and Indian Tribes or Native Hawaiian organizations in this notice.

DATES: Repatriation of the human remains and associated funerary objects in this notice may occur on or after January 15, 2026.

ADDRESSES: Send written requests for repatriation of the human remains and associated funerary objects in this notice to Elizabeth McCance, Henry L Ferguson Museum, P.O. Box 554, Fishers Island, NY 06390, email emccance@fergusonmuseum.org.

SUPPLEMENTARY INFORMATION: This notice is published as part of the National Park Service's administrative responsibilities under NAGPRA. The determinations in this notice are the sole responsibility of the Henry L Ferguson Museum, and additional information on the determinations in this notice, including the results of consultation, can be found in its inventory or related records. The National Park Service is not responsible for the determinations in this notice.

Abstract of Information Available

Human remains representing, at least, one individual, have been identified. The two associated funerary objects are one musket ball (bullet) showing evidence of dental imprints and one paint pot. Skeleton found in the 1920s or early 1930s when workers were widening the road near the Fort Wright gate on Fishers Island, NY. With it were found a fragment of a brass object, a limonite paint cup, and a lead bullet. (Only the cranium and mandible, along with the lead bullet and the paint cup, have been located in the Museum's collection.) There are no associated hazardous substances. Cultural affiliation has been reasonably identified with the Mashantucket Pequot Indian Nation, the Narragansett Indian Tribe, and the Shinnecock Indian Tribe.

Cultural Affiliation

Based on the information available and the results of consultation, cultural affiliation is reasonably identified by the geographical location or acquisition history of the human remains and associated funerary objects described in this notice.

Determinations

The Henry L Ferguson Museum has determined that:

• The human remains described in this notice represent the physical remains of one individual of Native American ancestry.

• The two objects described in this notice are reasonably believed to have been placed intentionally with or near individual human remains at the time of death or later as part of the death rite or ceremony.

• There is a connection between the human remains and associated funerary objects described in this notice and the Mashantucket Pequot Indian Tribe; Narragansett Indian Tribe; and the Shinnecock Indian Nation.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after January 15, 2026. If competing requests for repatriation are received, the Henry L Ferguson Museum must determine the most appropriate requestor prior to repatriation. Requests for joint repatriation of the human remains and associated funerary objects are considered a single request and not competing requests. The Henry L Ferguson Museum is responsible for sending a copy of this notice to the Indian Tribes and Native Hawaiian organizations identified in this notice and any other consulting parties.

Authority: Native American Graves Protection and Repatriation Act, 25 U.S.C. 3003, and the implementing regulations, 43 CFR 10.10.

Dated: November 17, 2025.
Melanie O'Brien,
Manager, National NAGPRA Program.

[FR Doc. 2025-22878 Filed 12-15-25; 8:45 am]

BILLING CODE 4312-52-P